DEPARTMENT OF AGRICULTURE

Submission for OMB Review; Comment Request

June 7, 2004.

The Department of Agriculture has submitted the following information collection requirement(s) to OMB for review and clearance under the Paperwork Reduction Act of 1995, Pub. L. 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Department Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Food Aid Request Entry System (FARES).

OMB Control Number: 0560-0225.

Summary of Collection: The Agricultural Trade Development and Assistant Act of 1954, as amended (Title II, P.L. 480), Section 416(b) of the Agricultural Act of 1949, as amended, (Section 416(b)), Food for Progress Act of 1985, as amended (Food for Progress), and the International School Lunch Program, known as the Global Food for Education and Child Nutrition Act, authorizes Commodity Credit Corporation Export Operations Division and Bulk Commodities Division to procure, sell, transport agricultural commodities and obtain discharge/delivery survey information. Commodities are delivered to foreign countries through voluntary agencies, United Nations World Food Program, the Foreign Agricultural Service, and the Agency for International Development. The program information will be electronically captured, requirements validated, and improved commodity request visibility will be provided via FARES a web-based application technology tool for the customers to submit online to process the commodity request electronically and to access the information.

Need and Use of the Information: The Farm Service Agency will collect the following information from FARES: The name of the Private Voluntary Organization, the program, the types of commodities being requested for export, quantities of commodities, destinations of commodities, special requirements for packaging. Without this information collection process, Kansas City Commodity Office would not be able to meet program requirements.

Description of Respondents: Not-for-profit institutions; Business or other-for-profit, Federal Government.

Number of Respondents: 300.

Frequency of Responses: Reporting: Other (bi-weekly/bi-monthly).

Total Burden Hours: 1,813.

Animal Plant and Health Inspection Service

Title: Karnal Bunt; Compensation for the 1999-2000 Crop Season.

OMB Control Number: 0579-0182.

Summary of Collection: Under the Plant Protection Act (7 U.S.C. 7701-7772), the Secretary of Agriculture is authorized to prohibit or restrict the importation, entry, or movement of plants and plant pests to prevent the introduction of plant pests into the United States or their dissemination within the United States. The Animal and Plant Health Inspection Service (APHIS), Plant Protection and Quarantine have regulations in place to prevent the interstate spread of Karnal bunt, a fungal disease of wheat. These regulations, contained in 7 CFR 301.89 through 301.89-16, authorize the Administrator, APHIS, to regulate each State, or portion of a State that is infected with Karnal bunt. APHIS has offered compensation as part of its Karnal bunt regulatory program since the 1995-1996-crop season. APHIS pays compensation in order to reduce the economic impact of its Karnal bunt quarantine on wheat producers and other individuals, and to help obtain their cooperation in its Karnal bunt eradication efforts.

Need and Use of the Information: APHIS' Karnal bunt compensation program requires program participants to engage in information collection activities (including the completion of a Karnal bunt compensation worksheet and compensation claim form) that are necessary for APHIS to run an effective compensation program. Growers, seed companies, and owners of grain storage facilities, flour millers, strew producers and handlers complete the worksheet with assistance from the Farm Service Administration personnel. The worksheet contains information concerning how much wheat the applicant produced during the growing season and the amount of money, if any, the applicant received for the products. The information on the worksheet enables APHIS to determine how much compensation the applicant is entitled to receive. The compensation claim form is the applicant's formal request for compensation and is the counterpart to the worksheet.

Description of Respondents: Business or other for profit; Individuals or households; Farms.

Number of Respondents: 170.

Frequency of Responses: Reporting: On occasion.

Total Burden Hours: 86.

Food Safety and Inspection Service

Title: Specified Risk Materials.

OMB Control Number: 0583-0127.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451 et seq.), and the Egg Products Inspection Act (EIPA) (21 U.S.C. 1031 et seq.). These statutes mandate that FSIS protect the public by ensuring that meat and poultry products are safe, wholesome, unadulterated, and properly labeled and packaged. FSIS established new, flexible procedures to actively encourage the development and use of new technologies in meat and poultry establishments and egg products plants. The new procedures will facilitate notification to the Agency of any new technology that is intended for use in meat and poultry establishments and egg products plants so that the agency can decide whether the new technology requires a pre-use review. A pre-use review often includes an in-plant trial.

Need and Use of the Information: FSIS will collect information to determine if an in-plant trial is necessary. FSIS will request that the firm submit a protocol that is designed to collect relevant data to support the use of the new technology. To not collect this information would reduce the effectiveness of the meat, poultry, and egg products inspection program.

Description of Respondents: Business or other for-profit.

Number of Respondents: 250.

Frequency of Responses: Recordkeeping; Reporting: on occasion.

Total Burden Hours: 8,400.

Food Safety and Inspection Service

Title: Specified Risk Materials.

OMB Control Number: 0583-0129.

Summary of Collection: The Food Safety and Inspection Service (FSIS) has been delegated the authority to exercise the functions of the Secretary as provided in the Federal Meat Inspection Act (FMIA) (21 U.S.C. 601 et seq.). This statute mandates that FSIS protect the public by ensuring that meat products are safe, wholesome, unadulterated, and properly labeled and packaged. FSIS requires that official establishments that slaughter cattle and or process carcasses or parts of cattle develop written procedures for the removal, segregation, and disposition of specified risk materials (SRMs). FSIS is requiring that these establishments maintain daily records sufficient to document the implementation and monitoring of their procedures for the removal, segregation, and disposition of SRMs, and any corrective actions taken to ensure that such procedures are effective.

Need and Use of the Information: FSIS will collect information from establishments to ensure that cattle slaughtered for meat product are free from Bovine Spongiform Encephalopathy.

Description of Respondents: Business or other for-profit.

Number of Respondents: 2,500.

Frequency of Responses: Recordkeeping; Reporting: Other (Daily).

Total Burden Hours: 107,500.

Food and Nutrition Service

Title: 7 CFR Part 210 National School Lunch Program.

OMB Control Number: 0584-0006.

Summary of Collection: The National School Lunch Act of 1946, as amended, authorizes the National School Lunch Program (NSLP). The NSLP is a food assistance program. The Department of Agriculture provides States with general and special cash assistance and donations of foods to assist schools in serving nutritious lunches to children each school day. Participating schools must serve lunches that are nutritionally adequate and to the extent practicable ensuring that participating children gain a full understanding of the relationship between proper eating and good health. The Food and Nutrition Service (FNS) will collect information using form FNS-640, Data Report Coordinated Review Effort.

Need and Use of the Information: The states will use form FNS-640 to report on an annual basis the results of comprehensive on-site administrative evaluations they conduct of school food authorities and schools operating the school lunch program. Data from the report is compiled and evaluated by FNS and used in responding to inquiries regarding program operations at the local level.

Description of Respondents: State, local or tribal government; Individuals or households; Business or other for-profit; Not-for-profit institutions; Federal Government.

Number of Respondents: 121,165.

Frequency of Responses: Recordkeeping; Reporting: On occasion; Quarterly; Monthly; Annually; Semi-annually.

Total Burden Hours: 10,448,411.

Food and Nutrition Service

Title: 7 CFR Part 220, School Breakfast Program.

OMB Control Number: 0584-0012.

Summary of Collection: Section 4 of the Child Nutrition Act (CNA) of 1966, as amended, authorizes the School Breakfast Program (SBP). It provides for the appropriation of “such sums as are necessary to enable the Secretary to carry out a program to assist the States and the Department of Defense through grants-in-aid and other means to initiate, maintain, or expand nonprofit breakfast programs in all schools which make application for assistance and agree to carry out a nonprofit breakfast program in accordance with the Act.” The Food and Nutrition Service (FNS) administers the School Breakfast Program on behalf of the Secretary of Agriculture so that needy children may receive their breakfasts free or at a reduced price.

Need and Use of the Information: School food authorities provide information to State agencies. The State agencies report to FNS. FNS use the information submitted to determine the amount of funds to be reimbursed, evaluate and adjust program operations, and to develop projections for future program operations.

Description of Respondents: State, local or tribal government; Individuals or households; Business or other for-profit; Not-for-profit institutions; Federal Government.

Number of Respondents: 81,747.

Frequency of Responses: Recordkeeping; Reporting: On occasion; Quarterly; Monthly; Semi-annually; Annually.

Total Burden Hours: 4,564,772.

Food and Nutrition Service

Title: Civil Rights Title VI—Collection Reports—FNS-191 and FNS-101.

OMB Control Number: 0584-0025.

Summary of Collection: Title VI of the Civil Rights Act of 1964 prohibits discrimination on the basis of race, color, and national origin in programs receiving federal financial assistance. Title 28 of the Code of Federal Regulations (CFR), Section 42.107(b), require all Federal Departments to provide for the collection of racial/ethnic data and information from applicants for and recipients of Federal assistance sufficient to permit effective enforcement of Title VI. In order to comply with the Civil Rights Act, Department of Justice regulations and the Department's nondiscrimination policy and regulations (7 CFR Part 15), the Department's Food and Nutrition Service (FNS) requires State agencies to submit data on the racial/ethnic categories of person receiving benefits from FNS food assistance programs. FNS will collect information using forms FNS 191 and FNS 101.

Need and Use of the Information: FNS will collect the names, address, telephone number, and number of clinics to compile a local agency directory which serves as the primary source of data on number and location for local agencies and number of clinics operating Commodity Supplemental Food Program (CSF). FNS will also collect information on the number of CFSP individuals (women, infant, children, and elderly) in each racial/ethnic category for one month of he year. The information will be used in the Department's annual USDA Equal Opportunity Report. If the information is not collected, FNS could not track racial/ethnic data for program evaluation.

Description of Respondents: State, local or tribal government.

Number of Respondents: 2,973.

Frequency of Responses: Recordkeeping; Reporting: Annually.

Total Burden Hours: 6,662.

Forest Service

Title: 36 CFR Part 228, Subpart C—Disposal of Mineral Materials.

OMB Control Number: 0596-0081.

Summary of Collection: The Forest Service (FS) is responsible for overseeing the management of National Forest System land. The Multiple-Use Mining Act of 1955 (30 U.S.C. 601, 603, 611-615) gives the FS specific authority to manage the disposal of mineral materials mined from National Forest land. FS uses form FS-2800-9, “Contract for the Sale of Mineral Materials,” to collect detailed information on the planned mining and disposal operations as well as a contract for the sale of mineral materials.

Need and Use of the Information: FS will use information collected from the public to ensure that environmental impacts of mineral material disposal are minimized. A review of the operating plan provides the authorized officer the opportunity to determine if the proposed operation is appropriate and consistent with all applicable land management laws and regulations. The information also provides the means of documenting planned operations and the terms and conditions that the FS deems necessary to protect surface resources. If FS did not collect this information, a self-policing situation would exist.

Description of Respondents: Business or other for-profit; Individuals or households.

Number of Respondents: 6,000.

Frequency of Responses: Reporting: On occasion.

Total Burden Hours: 15,000.

Forest Service

Title: Predecisional Objection Process for Hazardous Fuel Reduction Projects Authorized by Healthy Forest Restoration Act of 2003.

OMB Control Number: 0596-0172.

Summary of Collection: On December 3, 2003, President Bush signed into law the Healthy Forests Restoration Act of 2003 to reduce the threat of destructive wildfires while upholding environmental standards and encouraging early public input during review and planning processes. One of the provisions of the Act, in Section 105 requires that not later than 30 days after the date of the enactment of this Act, the Secretary of Agriculture shall promulgate interim final regulations to establish a predecisional administrative review process. This process services as the sole means by which a person can seek administrative review regarding an authorized hazardous fuel reduction project on Forest Service (FS) land. Those choosing to participate in the pre-decisional administrative review process must provide information the FS needs to respond to their concern. This written information needs to include the objector's name, address, phone number; the name of the project; name and title of the Responsible Official; the project location; and sufficient narrative description of those parts of the project that are objected to; specific issues related to the proposed decision, and suggested remedies which would resolve the objection.

Need and use of the Information: The collected information will be used by the Reviewing Officer in responding to those who participate in the objection process prior to a decision by the Responsible Official. FS could not meet the intent of Congress without collecting this information.

Description of Respondents: Individuals or households; State, Local or Tribal Government; Not-for-profit institutions.

Number of Respondents: 121.

Frequency of Responses: Reporting: On occasion.

Total Burden Hours: 968.

Forest Service

Title: Understanding the Relationship Between People, Local Land Use, and the Francis Marion National Forest.

OMB Control Number: 0596-New.

Summary of Collection: The National Forest-Dependent rural Communities Economic Diversification Act of 1990 (Pub. L. 101-624) provides the Forest Service (FS) with an opportunity to help eligible rural communities located in or near national forests to organize, plan, and implement rural development efforts. FS is seeking to conduct a proposed study that includes a survey of rural residents in an area adjacent to a national forest. The study seeks to gain information on 1) resident perceptions of urban advancement and 2) resident recreational use of the Francis Marion National Forest.

Need and Use of the Information: FS will collect information to examine rural residents knowledge and opinions regarding commercial and residential development in rural, upper Charleston County, South Carolina. Also, FS will collect information to learn more about the kinds of recreational activities in which local residents participate while visiting the Francis Marion National Forest. If the information is not collected, data concerning rural resident reactions to encroaching development will not be available to local, State, or governmental agencies.

Description of Respondents: Individuals or households.

Number of Respondents: 400.

Frequency of Responses: Reporting: On Occasion.

Total Burden Hours: 132.

Rural Development Services

Title: 7 CFR 1956-B, Debt Settlement—Farm Programs and Multiple Family Housing.

OMB Control Number: 0575-0118.

Summary of Collection: The Farm Service Agency's Farm Loan Program provides supervised credit in the form of loans to family farmers and ranchers to purchase land and finance agricultural production. The Rural Housing Service (RHS) provides supervised credit in the form of Multi-Family Housing loans to provide eligible persons with economically designed and constructed rental or cooperative housing and related facilities suited to the living requirements. This regulation defines the requirements for debt settlement and the factors the agency considers in approving or rejecting the offer submitted by the borrowers.

Need and Use of the Information: The information submitted by the borrowers is used to determine, if acceptance of the settlement offers on debts owed is in the best interest of the Government. If the information were not collected, outdated and inaccurate information would cause increased losses to the government.

Description of Respondents: Farms; Individuals or households, Business or other for profit; State, local or tribal government.

Number of Respondents: 2,400.

Frequency of Responses: Reporting: On occasion.

Total Burden Hours: 20,400.

Risk Management Agency

Title: Apiculture Survey.

OMB Control Number: 0563-NEW.

Summary of Collection: The Risk Management Agency is responsible for promoting, supporting, and regulating a broad array of market-based, risk management programs for agricultural producers. In legislation enacted in 2000 and 2002, Congress authorized and directed the agency to “increase participation by producers of underserved agricultural commodities, including specialty crops” and to “enter into contracts to carry out research and development” to achieve this end.

Need and Use of the Information: RMA and its contractors will evaluate use the information to assess the feasibility of providing a risk management program to apiculture producers. RMA will collect information on levels of production, yields, costs and revenues that cross several years as the basis for constructing an actuarial profile. If this information were not collected, it would not be possible to prepare an actuarially sound profile of the industry.

Description of Respondents: Not-for-profit institutions; Business or other for-profit; State, local or tribal government

Number of Respondents: 1,000.

Frequency of Responses: Recordkeeping; Reporting: On occasion.

Total Burden Hours: 2,477.

Agricultural Marketing Service

Title: Export Fruit Regulations.

OMB Control Number: 0581-0143.

Summary of Collection: Fresh apples and grapes grown in the United States shipped to any foreign destination must meet minimum quality and other requirements established by regulations issued under the Export Apple Act (7 CFR Part 33) and the Export Grape and Plum Act (7 CFR Part 35). These Acts were designed to promote the foreign trade of the United States in apples and grapes; to protect the reputation of these American-grown commodities; and to prevent deception or misrepresentation of the quality of such products moving in foreign commerce. Currently, plum and pear provisions are not covered under the Export Grape and Plum Act. The regulation issued under the Export Grape and Plum Act (7 CFR Part 35) cover fresh grapes grown in the United States and shipped to foreign destinations, except Canada and Mexico.

Need and Use of the Information: Person who ship fresh apples and grapes grown in the U.S. to foreign destinations must have such shipment inspected and certified by Federal or Federal-State Inspection Service (FSIS) inspectors. Agriculture Marketing Service administers the FSIS. Official FSIS inspection certificates and phytosanitary certificates issued by USDA's Animal and Plant Health Inspection Service provide the needed information for USDA. Export carriers are required to keep on file for three years copies of inspection certificates for apples and grapes.

Description of Respondents: Business or other for-profit; Farms.

Number of Respondents: 100.

Frequency of Responses: Recordkeeping; Reporting; On occasion, Monthly, Annually.

Total Burden Hours: 25.

Sondra Blakey,
Departmental Information Collection Clearance Officer.

[FR Doc. 04-13294 Filed 6-10-04; 8:45 am]

BILLING CODE 3410-01-M